ENVIRONMENTAL PROTECTION AGENCY

[OPP-2004-0404; FRL-7733-6]

40 CFR Part 155

Pesticides; Procedural Regulations for Registration Review; Availability of a Draft Schedule for Registration Review

AGENCY: Environmental Protection Agency (EPA).

ACTION: Notice of availability.

SUMMARY: EPA is announcing availability of a draft schedule for the registration review of pesticides mandated in section 3(g) of the Federal Insecticide, Fungicide, and Rodenticide Act (FIFRA). EPA is making the draft schedule available to assist the public in its review of the proposed procedural regulations for registration review that EPA published on July 13, 2005. To develop the draft schedule, EPA used procedures described in the July 13, 2005 proposal. The draft schedule is, in effect, a model schedule which shows how the Agency could sequence pesticide reviews to meet the goal of reviewing each pesticide's registration every 15 years. Although the Agency is not seeking comment on the draft schedule, you may include comments on the draft schedule in your comments on the proposed procedural regulations for the registration review of pesticides.

FOR FURTHER INFORMATION CONTACT: Kennan Garvey, Special Review and Reregistration Division (7508C), Office of Pesticide Programs, Environmental Protection Agency, 1200 Pennsylvania Ave., NW., Washington, DC 20460-0001; telephone number: 703-305-7106; fax number: 703-308-8041; e-mail address:garvey.kennan@epa.gov.

SUPPLEMENTARY INFORMATION:

I. General Information

A. Does this Action Apply to Me?

You may be potentially affected by this action if you hold pesticide registrations. Pesticide users or other persons interested in the regulation of the sale, distribution, or use of pesticides may also be interested in this action. Potentially affected entities may include, but are not limited to:

• Producers of pesticide products (NAICS code 32532)

• Producers of antifoulant paints (NAICS code 32551)

• Producers of antimicrobial pesticides (NAICS code 32561)

• Producers of nitrogen stabilizer products (NAICS code 32531)

• Producers of wood preservatives (NAICS code 32519)

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in proposed § 155.40 of the regulatory text of the Federal Register of July 13, 2005 (70 FR 40251) (FRL-7718-4). If you have any questions regarding the applicability of this action to a particular entity, consult the person listed under FOR FURTHER INFORMATION CONTACT.

B. How Can I Get Copies of this Document and Other Related Information?

1. Docket. EPA has established an official public docket for this action under docket identification (ID) number OPP-2004-0404. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access thisFederal Register document electronically through the EPA Internet under the “Federal Register” listings at http://www.epa.gov/fedrgstr/.

An electronic version of the public docket is available through EPA's electronic public docket and comment system, EPA Dockets. You may use EPA Dockets at http://www.epa.gov/edocket/ to view public comments, to access the index listing of the contents of the official public docket, and to access those documents in the public docket that are available electronically. Although not all docket materials may be available electronically, you may still access any of the publicly available docket materials through the docket facility identified in Unit I.B.1. Once in the system, select “search,” then key in the appropriate docket ID number.

II. Background

EPA is announcing the availability of a draft schedule for the registration review of pesticides. To develop the draft schedule, EPA used procedures described in proposed procedural regulations for the registration review of pesticides published in the Federal Register of July 13, 2005 (70 FR 40251). The draft schedule is, in effect, a model schedule which shows how the Agency could sequence pesticide reviews to meet the goal of reviewing each pesticide's registration every 15 years. As explained in the proposed rule, EPA plans to issue a registration review schedule after completing the final registration review rule, and then update the schedule annually.

The Agency has placed the draft schedule in the docket for the proposed procedural regulations for the registration review of pesticides, OPP-2004-0404. You may electronically access the draft schedule and the proposed procedural regulations from the Agency's E-docket at http://www.epa.gov/edocket/.

EPA is making the draft schedule available to assist the public in its review of the proposed procedural regulations for the registration review of pesticides. This notice provides additional information that can be considered when reviewing the proposed regulations, but does not impact the public comment period on the proposed procedural regulations for the registration review of pesticides that ends on October 11, 2005. Although the Agency is not seeking comment on the draft schedule, you may include comments on the draft schedule in your comments on the proposed procedural regulations for the registration review of pesticides. Instructions for submitting comments on the proposed regulations are provided in the Federal Register notice of July 13, 2005 (70 FR 40251).

EPA issued the proposed regulations for the registration review of pesticides under section 3(g) of FIFRA. The statute requires EPA to establish regulations for the periodic review of pesticides to assure that each pesticide registration continues to satisfy the FIFRA standard for registration. The goal is to review each pesticide every 15 years. The registration review program will replace the tolerance reassessment program and the reregistration program as the Agency's means for systematically reviewing existing pesticides.

List of Subjects

Environmental protection, Administrative practice and procedure, Agricultural commodities, Pesticides and pests, Reporting and recordkeeping requirements.

Dated: August 11, 2005.
Anne E. Lindsay,
Acting Director, Office of Pesticide Programs.

[FR Doc. 05-16298 Filed 8-16-05; 8:45 am]

BILLING CODE 6560-50-S